DEPARTMENT OF AGRICULTURE

Forest Service

Kern and Tulare Counties Resource Advisory Committee

AGENCY: Forest Service, USDA.

ACTION: Call for Proposals and Announcement of Meetings.

SUMMARY: The Kern and Tulare Counties Resource Advisory Committee (RAC) will be accepting applications for projects that may be recommended for funding under Title II of the Secure Rural Schools and Community Self-Determination Act (Pub. L 110-343 as amended by H.R. 4348 ENR). The purpose of the committee is to improve collaborative relationships and to provide advice and recommendations to the Forest Service concerning projects and funding consistent with Title II of the Act. The application and other information is available for download from the Secure Rural Schools Web site: http://www.fs.fed.us/r5/sequoia/projects/rural-schools/index.html and can be submitted electronically, by mail, or in person.

DATES: Applications will be accepted electronically or by mail until September 6, 2012 or in person at the meetings to be held on August 23 and September 13, 2012. All meetings will begin at 5 p.m.

ADDRESSES: The August 23, 2012 meeting will be held at the Sequoia National Forest Headquarters, 1839 South Newcomb Street, Porterville, California 93257. The September 13 meeting will be held at the 3rd floor conference room of the County of Kern Administrative Office, 1115 Truxtun Avenue, Bakersfield, California 93301.

Applications should be sent to Penelope Shibley, Kern River Ranger District, P.O. Box 9, Kernville, CA 93238, or by email to pshibley@fs.fed.us. All applications, including names and addresses when provided, are placed in the record and are available for public inspection and copying. The public may deliver applications to the Kern River Ranger District, 105 Whitney Road, Kernville CA. Visitors are encouraged to call ahead to 760-376-3781 to facilitate entry into the building and access to the record.

FOR FURTHER INFORMATION CONTACT: Penelope Shibley, RAC Coordinator, Kern River Ranger District; (760) 376-3781; or email: pshibley@fs.fed.us.

Individuals who use telecommunication devices for the deaf (TDD) may call 559-781-6650 between 8:00 a.m. and 4:30 p.m., Pacific Daylight Time, Monday through Friday. Please make requests in advance for sign language interpreting, assistive listening devices or other reasonable accomodation for access to the facility or procedings by contacting the person listed in For Further Information.

SUPPLEMENTARY INFORMATION: All meetings are open to the public. The following business will be conducted (1) introductions of all committee members and Forest Service personnel; (2) approve last meeting minutes; (3) hear updates on progress of past approved projects; (4) hear project presentations; and (5) vote to recommend projects for funding approval. Persons who wish to bring related matters to the attention of the Committee may file written statements with the Committee staff before or after the meeting.

Dated: July 19, 2012.
Kevin B. Elliott,
Forest Supervisor.

[FR Doc. 2012-18141 Filed 7-24-12; 8:45 am]

BILLING CODE 3410-11-P